FEDERAL COMMUNICATIONS COMMISSION

47 CFR Part 73

[DA 04-29; MM Docket No. 02-14; RM-10358; RM-10764]

Radio Broadcasting Services; Castle Dale, UT, Coalville, UT; Huntsville, UT, Jerome, ID, Ketchum, ID, Naples, UT, Parowan, UT, Payson, UT, Rupert, ID, and South Jordan, Salina, Tooele, Wellington, UT

AGENCY: Federal Communications Commission.

ACTION: Final rule.

SUMMARY: In response to a counterproposal in this proceeding filed jointly by Millcreek Broadcasting, L.L.C., Community Wireless of Park City, Inc., and George S. Flinn, Jr., this document modifies the respective authorizations of Station KUUU to specify operation on Channel 223C2 at South Jordan, Utah, Station KCUA to specify operation on Channel 223C at Naples, Utah, and Station KPED to specify operation on Channel 276C at Coalville, Utah. To accommodate these modifications, this document modifies the licenses of Station KKMV, Rupert, Idaho, to specify operation on Channel 291C0 and Station KTCE, Payson, Utah, to specify operation on Channel 221A. To accommodate Channel 221A at Payson, this document substitutes Channel 237C3 at Wellington, Utah, and Channel 271C3 at Castle Dale, Utah. See 67 FR 5961, February 8, 2002. The reference coordinates for the Channel 223C2 allotment at South Jordan, Utah, are 40-39-35 and 112-12-05.The reference coordinates for the Channel 223C allotment at Naples, Utah, are 40-35-08 and 109-42-08. The reference coordinates for the Channel 276C allotment at Coalville, Utah, are 40-55-46 and 111-00-26. The reference coordinates for the Channel 291C0 allotment at Rupert, Idaho, are 42-23-40 and 113-42-05. The reference coordinates for the Channel 221A allotment at Payson, Utah, are 40-03-20 and 111-49-43. The reference coordinates for the Channel 237C3 allotment at Wellington, Utah, are 39-32-33 and 110-44-05. The reference coordinates for the Channel 271C3 allotment at Castle Dale, Utah, are 39-12-48 and 111-01-18.

DATES: Effective March 1, 2004.

FOR FURTHER INFORMATION CONTACT: Robert Hayne, Media Bureau, (202) 418-2177.

SUPPLEMENTARY INFORMATION: This is a synopsis of the Report and Order in MB Docket No.02-14 adopted January 14, 2004, and Released January 16, 2004. The full text of this decision is available for inspection and copying during normal business hours in the FCC Reference Information Center at Portals ll, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Idaho, is amended by removing Channel 223C and adding Channel 291C0 at Rupert.

3. Section 73.202(b), the Table of FM Allotments under Utah, is amended by removing Channel 237C3 and adding Channel 271C3 at Castle Dale, by removing Channel 223C3 and by adding Channel 276C at Coalville, by removing Huntsville, Channel 276C3, by adding Naples, Channel 223C2, by removing Channel 222A and adding Channel 221A at Payson, by adding South Jordan, Channel 223C2, by removing Tooele, Channel 221C3, by removing Channel 221C3 and adding Channel 237C3 at Wellington.

Federal Communications Commission.
John A. Karousos,
Assistant Chief, Audio Division, Media Bureau.

[FR Doc. 04-2841 Filed 2-9-04; 8:45 am]

BILLING CODE 6712-01-P